DEPARTMENT OF ENERGY

Federal Energy Regulatory Commission

Combined Notice of Filings #1

Take notice that the Commission received the following electric rate filings:

Docket Numbers: ER10-2179-021; ER10-2181-021; ER10-2182-021.

Applicants: Calvert Cliffs Nuclear Power Plant, LLC, Nine Mile Point Nuclear Station, LLC, R.E. Ginna Nuclear Power Plant, LLC.

Description: Notice of Non-Material Change in Status of Calvert Cliffs Nuclear Power Plant, LLC, et al.

Filed Date: 11/5/13.

Accession Number: 20131105-5143.

Comments Due: 5 p.m. ET 11/26/13.

Docket Numbers: ER14-229-000.

Applicants: Southwest Power Pool, Inc.

Description: Southwest Power Pool, Inc. submits 2213R2 Cimarron Windpower II, LLC GIA Supplemental Submission to be effective N/A.

Filed Date: 11/5/13.

Accession Number: 20131105-5129.

Comments Due: 5 p.m. ET 11/26/13.

Docket Numbers: ER14-325-000.

Applicants: Enel Cove Fort, LLC.

Description: Enel Cove Fort, LLC submits Enel Cove Fort, LLC MBR Tariff to be effective 11/15/2013.

Filed Date: 11/5/13.

Accession Number: 20131105-5097.

Comments Due: 5 p.m. ET 11/26/13.

Docket Numbers: ER14-326-000.

Applicants: The Connecticut Light and Power Company.

Description: The Connecticut Light and Power Company submitsTown of Wallingford—CONVEX Services CL&P Electric Rate Schedule FERC No. 583 to be effective 1/1/2014.

Filed Date: 11/5/13.

Accession Number: 20131105-5098.

Comments Due: 5 p.m. ET 11/26/13.

Docket Numbers: ER14-327-000.

Applicants: The Connecticut Light and Power Company.

Description: The Connecticut Light and Power Company submits CMEEC—CONVEX Services First Revised Rate Schedule FERC No. 576 to be effective 1/1/2014.

Filed Date: 11/5/13.

Accession Number: 20131105-5115.

Comments Due: 5 p.m. ET 11/26/13.

Docket Numbers: ER14-328-000.

Applicants: ISO New England Inc., New England Power Pool Participants Committee.

Description: ISO New England Inc. and New England Power Pool Participants Committee submit Installed Capacity Requirement, Hydro Quebec Interconnection Capability Credits and Related Values for the 2017/2018 Capability Year.

Filed Date: 11/5/13.

Accession Number: 20131105-5124.

Comments Due: 5 p.m. ET 11/26/13.

Docket Numbers: ER14-329-000.

Applicants: ISO New England Inc.

Description: ISO New England Inc. submits 8th Forward Capacity Auction Informational Filing.

Filed Date: 11/5/13.

Accession Number: 20131105-5125.

Comments Due: 5 p.m. ET 11/20/13.

Docket Numbers: ER14-330-000.

Applicants: The Connecticut Light and Power Company.

Description: The Connecticut Light and Power Company submits CTMEEC—Convex Services First Revised CL&P Rate Schedule FERC No. 582 to be effective 1/1/2014.

Filed Date: 11/5/13.

Accession Number: 20131105-5130.

Comments Due: 5 p.m. ET 11/26/13.

Docket Numbers: ER14-331-000.

Applicants: NorthWestern Corporation.

Description: NorthWestern Corporation submits SA 692—MDT Florence East to be effective 11/7/2013.

Filed Date: 11/6/13.

Accession Number: 20131106-5001.

Comments Due: 5 p.m. ET 11/27/13.

Docket Numbers: ER14-332-000.

Applicants: Southern California Edison Company.

Description: Southern California Edison Company submits Amended Distribution Service Agreement with Houweling Nurseries Oxnard, Inc. to be effective 10/28/2013.

Filed Date: 11/6/13.

Accession Number: 20131106-5002.

Comments Due: 5 p.m. ET 11/27/13.

Docket Numbers: ER14-333-000.

Applicants: Southern California Edison Company.

Description: Southern California Edison Company submits LGIA with Portal Ridge Solar A, Portal Ridge Solar B, Portal Ridge Solar C to be effective 11/7/2013.

Filed Date: 11/6/13.

Accession Number: 20131106-5003.

Comments Due: 5 p.m. ET 11/27/13.

Docket Numbers: ER14-334-000.

Applicants: Potomac Electric Power Company.

Description: Notice of Cancellation of Rate Schedules No. 20, 35 and 38 of Potomac Electric Power Company.

Filed Date: 11/5/13.

Accession Number: 20131105-5142.

Comments Due: 5 p.m. ET 11/26/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2013.
Nathaniel J. Davis, Sr.,
Deputy Secretary.

[FR Doc. 2013-27387 Filed 11-14-13; 8:45 am]

BILLING CODE 6717-01-P